DEPARTMENT OF COMMERCE

International Trade Administration

[A-570-848]

Freshwater Crawfish Tail Meat From the People's Republic of China: Final Results of Antidumping Duty New Shipper Review; 2017-2018

AGENCY: Enforcement and Compliance, International Trade Administration, Department of Commerce.

SUMMARY: The Department of Commerce (Commerce) determines that Nanjing Yinxiangchen International Trade Co., Ltd. (Nanjing Yinxiangchen) did not make sales of subject merchandise at less than normal value for the period of review (POR) September 1, 2017 through February 28, 2018.

DATES: Applicable June 18, 2019.

FOR FURTHER INFORMATION CONTACT: Hermes Pinilla, AD/CVD Operations, Office I, Enforcement and Compliance, International Trade Administration, U.S. Department of Commerce, 1401 Constitution Avenue NW, Washington, DC 20230; telephone: (202) 482-3477.

SUPPLEMENTARY INFORMATION:

Background

On April 2, 2019, we published the preliminary results of the new shipper review of the antidumping duty order on freshwater crawfish tail meat from the People's Republic of China (China) covering the POR.¹ We gave interested parties an opportunity to comment on the Preliminary Results. We did not receive comments from interested parties. Hence, the final results are unchanged from the Preliminary Results. Commerce conducted these reviews in accordance with section 751(a)(1) and (2)(B) of the Tariff Act of 1930, as amended (the Act). The deadline for the final results of this new shipper review is June 24, 2019.²

¹ See Freshwater Crawfish Tail Meat from the People's Republic of China: Preliminary Results of Antidumping Duty New Shipper Review; 2017-2018, 84 FR 12585 (April 2, 2019) (Preliminary Results), and accompanying Preliminary Decision Memorandum.

² For further explanation regarding how Commerce calculated this date, see Memorandum, “New Shipper Review of the Antidumping Duty Order on Freshwater Crawfish Tail Meat from the People's Republic of China; 2017-2018: Preliminary Results Federal Register Notice,” dated April 5, 2019.

Scope of the Order

The product covered by the antidumping duty order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (CBP) in 2000, and HTSUS numbers 0306.19.00.10 and 0306.29.00.00, which are reserved for fish and crustaceans in general. On February 10, 2012, Commerce added HTSUS classification number 0306.29.01.00 to the scope description pursuant to a request by CBP. On September 21, 2018, Commerce added HTSUS classification numbers 0306.39.0000 and 0306.99.0000 to the scope description pursuant to a request by CBP. The HTSUS subheadings are provided for convenience and customs purposes only. The written description of the scope of the order is dispositive.

Analysis of Comments Received

As stated above, we received no comments on the Preliminary Results.

Changes Since the Preliminary Results

We made no revisions to the Preliminary Results.

Final Results of New Shipper Review

As a result of this new shipper review, Commerce determines that the following weighted-average dumping margin exists for the period September 1, 2017 through February 28, 2018:

Exporter | Producer | Weighted- average margin (percent)
Nanjing Yinxiangchen International Trade Co. Ltd | Nanjing Yinxiangchen International Trade Co. Ltd | 0.00

Assessment

Pursuant to section 751(a)(2)(A) of the Act and 19 CFR 351.212(b), and the Final Modification for Reviews,³ Commerce intends to instruct CBP to liquidate all appropriate entries for Nanjing Yinxiangchen without regard to antidumping duties. For entries that were not reported in the U.S. sales database submitted by Nanjing Yinxiangchen examined during this review, Commerce intends to instruct CBP to liquidate such entries at the China-wide rate. We intend to issue assessment instructions to CBP 15 days after the date of publication of the final results of this new shipper review.

³ See Antidumping Proceedings: Calculation of the Weighted-Average Dumping Margin and Assessment Rate in Certain Antidumping Duty Proceedings; Final Modification, 77 FR 8101, 8103 (February 14, 2012) (Final Modification for Reviews).

Cash Deposit Requirements

On June 7, 2019, as a result of the five-year (sunset) review, Commerce revoked the antidumping duty order on imports of freshwater crawfish tail meat from the People's Republic of China.⁴ In the Revocation Notice, Commerce stated that it intends to issue instructions to CBP to terminate the suspension of liquidation and to discontinue the collection of cash deposits on entries of subject merchandise, entered or withdrawn from warehouse, on or after May 16, 2019.⁵ Furthermore, because the antidumping duty order on freshwater crawfish tail meat from China has been revoked as a result of the Revocation Notice, Commerce will not issue cash deposit instructions at the conclusion of this administrative review.

⁴ See Freshwater Crawfish Tail Meat from the People's Republic of China: Final Results of Sunset Review and Revocation of Antidumping Duty Order, 84 FR 26647 (June 7, 2019) (Revocation Notice).

⁵ See Revocation Notice, 84 FR at 26647.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

The final results of this new shipper review are issued and published in accordance with sections 751(a)(2)(B) and 777(i)(1) of the Act and 19 CFR 351.214.

Dated: June 12, 2019.
Jeffrey I. Kessler,
Assistant Secretary for Enforcement and Compliance.

[FR Doc. 2019-12838 Filed 6-17-19; 8:45 a.m.]

BILLING CODE 3510-DS-P